DEPARTMENT OF DEFENSE

Department of the Army, Corps of Engineers

Intent To Prepare a Second Supplemental Environmental Impact Statement to the Final EIS on Herbert Hoover Dike Major Rehabilitation and Evaluation Report, Reaches 2 and 3, in Palm Beach and Glades Counties, FL

AGENCY: Department of the Army, U.S. Army Corps of Engineers, DoD.

ACTION: Notice of intent.

SUMMARY: On July 8, 2005, the Jacksonville District, U.S. Army Corps of Engineers (Corps) issued a Final Supplemental Environmental Impact Statement (FSEIS) for the Major Rehabilitation actions proposed for Herbert Hoover Dike (HHD), Reach One. Herbert Hoover Dike is the levee that completely surrounds Lake Okeechobee. On September 23, 2005, a Record of Decision was signed adopting the preferred alternative as the Selected Plan for Reach One.

At this time the Corps plans to extend rehabilitation along Reaches Two and Three of HHD. This stretch of HHD extends for approximately 27 miles between an area west of Belle Glade, Palm Beach County to east of Moore Haven, Glades County, FL.

ADDRESSES: U.S. Army Corps of Engineers, Planning Division, Environmental Branch, P.O. Box 4970, Jacksonville, FL 32232-0019.

FOR FURTHER INFORMATION CONTACT: Ms. Barbara Cintron at (904) 232-1692 or e-mail at Barbara.b.cintron@usace.army.mil.

SUPPLEMENTARY INFORMATION: a. The proposed action will be the selected plan described in the July 2005 SEIS with the additional action of extending construction along Reaches Two and Three of the levee. The proposed action will not affect the Regulation Schedule for Lake Okeechobee. It s expected that all construction will take place within the existing real estate footprint of the HHD.

b. Alternatives to be considered separately for each reach include alternative structural modifications to the existing levee which are currently under development.

c. A scoping letter will be used to invite comments on alternatives and issues from Federal, State, and local agencies, affected Indian tribes, and other interested private organizations and individuals. A scoping meeting is not anticipated.

d. A public meeting will be held after release of the Draft SEIS; the exact location, date, and times will be announced in a public notice and local newspapers.

e. DSEIS Preparation: The 2nd DSEIS is expected to be available for public review in the fourth quarter of CY 2006.

Brenda S. Bowen,
Army Federal Register Liaison Officer.

[FR Doc. 06-6793 Filed 8-8-06; 8:45 am]

BILLING CODE 3710-AJ—M